DEPARTMENT OF HEALTH AND HUMAN SERVICES

Centers for Disease Control and Prevention

[60Day-06-06BM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Randomized Controlled Trial of Routine Screening for Intimate Partner Violence—New—National Center for Injury Prevention and Control (NCIPC), Centers for Disease Control and Prevention (CDC).

Background and Brief Description

Intimate partner violence (IPV) is a prevalent problem with serious health consequences that include death, physical injury, increased rates of physical illness, posttraumatic stress, increased psychological distress, depression, substance abuse, and suicide. Some studies suggest that abuse perpetrated by intimate partners tends to be repetitive and escalates in severity over time. This research has been the basis for promoting early diagnosis and intervention.

Health care providers appear to be well situated to identify IPV. Women come into contact with health care services routinely for a number of reasons such as prenatal care, family planning, cancer screening, and well baby care. Women experiencing IPV make more visits to emergency departments, primary care facilities, and mental health agencies than non-abused women. Considering the magnitude and severity of IPV, and the potential role health care providers could play in reducing its serious consequences, numerous professional and health care organizations have recommended routine screening of women for IPV in primary care settings. However, various systematic reviews of the literature have not found evidence for the effectiveness of screening to improve outcomes for women exposed to IPV.

A recent expert panel recommended that a randomized controlled trial (RCT) be conducted to establish the effectiveness of screening on women's health. In order to appropriately design a RCT, estimates of health change are required to calculate the sample size for the RCT, and consequently, establish its cost. In addition, the feasibility, acceptability, and impact of different approaches to screening and the concordance of different data collection methods need to be assessed to adequately design the RCT.

CDC has a contract to pilot test measures and procedures that are being proposed for a RCT of routine screening of IPV. This pilot test will recruit 175 women from OBGYN and family planning services in Cook County Hospital in Chicago. Women who agree to participate will be asked to complete a baseline computer-assisted and one week follow-up telephone questionnaire that will include overall health, physical and mental health, disability, health care utilization, and quality of life (QOL). Based on this pilot test, the measure will be revised and used in a RCT with 3000 women to test the impact of screening on health and QOL. There are no costs to respondents other than their time to participate in the survey.

Estimated Annualized Burden Hours
Form | Number of respondents | Number of responses per respondents | Avg. burden/response (in hours) | Total burden (hours)
Screener for Pilot | 210 | 1 | 1/60 | 4
Pilot Health and QOL questionnaire | 175 | 2 | 20/60 | 117
Screener for Final Pilot | 3750 | 1 | 1/60 | 63
Health and QOL questionnaire Final | 3000 | 2 | 20/60 | 2000
Total |  |  |  | 2184

Dated: July 21, 2006.
Joan F. Karr,
Acting Reports Clearance Officer, Centers for Disease Control and Prevention.

[FR Doc. E6-12025 Filed 7-26-06; 8:45 am]

BILLING CODE 4163-18-P